PENSION BENEFIT GUARANTY CORPORATION

Notice of Availability of the Pension Benefit Guaranty Corporation Draft of Information Quality Guidelines

AGENCY: Pension Benefit Guaranty Corporation.

ACTION: Notice.

SUMMARY: The Pension Benefit Guaranty Corporation (PBGC) has made available a draft of its Information Quality Guidelines pursuant to the requirements of the Office of Management and Budget's (OMB's) Guidelines for Ensuring and Maximizing the Quality, Objectivity, Utility and Integrity of Information Disseminated by Federal Agencies. The PBGC invites comments on these draft Information Quality Guidelines. The draft guidelines are published on the PBGC's Web site (http://www.pbgc.gov).

DATES: Comments must be received on or before May 31, 2002.

ADDRESSES: Comments may be mailed to the Office of the General Counsel, Pension Benefit Guaranty Corporation, 1200 K Street, NW., Washington, DC 20005-4026, or delivered to Suite 340 at the above address. Comments also may be sent by Internet e-mail to reg.comments@pbgc.gov <mailto:reg.comments@pbgc.gov>. Copies of comments may be obtained by writing the PBGC's Communications and Public Affairs Department (CPAD) at Suite 240 at the above address or by visiting or calling CPAD during normal business hours (202-326-4040).

FOR FURTHER INFORMATION CONTACT: Harold J. Ashner, Assistant General Counsel, or James L. Beller, Attorney, Office of the General Counsel, Pension Benefit Guaranty Corporation, 1200 K Street, NW., Washington, DC 20005, 202-326-4024. (TTY/TDD users may call the Federal relay service toll-free at 1-800-877-8339 and ask to be connected to 202-326-4024.)

SUPPLEMENTARY INFORMATION: Section 515 of the Treasury and General Government Appropriations Act for Fiscal Year 2001 (Pub. L. 106-554) directs OMB to issue government-wide guidelines that “provide policy and procedural guidance to Federal agencies for ensuring and maximizing the quality, objectivity, utility and integrity of information (including statistical information) disseminated by Federal agencies.” The OMB guidelines require each agency to prepare a draft report providing the agency's information quality guidelines. Each agency is required to publish a notice of availability of this draft report in the Federal Register and to post this report on its Web site by May 1, 2002, to provide an opportunity for public comment. The PBGC has posted its draft Information Quality Guidelines on its Web site at www.pbgc.gov and encourages public comment on the report.

The PBGC will consider these public comments and make appropriate revisions to its Information Quality Guidelines before submitting them in draft form for OMB review. Under OMB guidelines, the PBGC must submit the draft for OMB review no later than July 1, 2002.

Issued in Washington, DC, on this 25th day of April, 2002.
Steven A. Kandarian,
Executive Director, Pension Benefit Guaranty Corporation.

[FR Doc. 02-10644 Filed 4-30-02; 8:45 am]

BILLING CODE 7708-01-P